DEPARTMENT OF EDUCATION

[Docket ID ED-2023-IES-0182]

Request for Information on Potential New Program, From Seedlings to Scale (S2S); Correction

AGENCY: Institute of Education Sciences, Department of Education.

ACTION: Notice; correction.

SUMMARY: On October 12, 2023, the Department of Education (Department) published in the Federal Register a request for information (RFI) on a potential new program, From Seedlings to Scale (S2S). We are correcting the docket identification number. All other information in the RFI remains the same.

DATES: This correction is applicable October 17, 2023.

FOR FURTHER INFORMATION CONTACT: Erin Higgins, U.S. Department of Education, 400 Maryland Avenue SW, Washington, DC 20202. Telephone: (202) 987-1531. Email: Erin.Higgins@ed.gov.

If you are deaf, hard of hearing, or have a speech disability and wish to access telecommunications relay services, please dial 7-1-1.

SUPPLEMENTARY INFORMATION: On October 12, 2023, the Department published a RFI on S2S, a potential new program. (88 FR 70652). We are correcting the docket identification number.

Accessible Format: On request to the contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Correction

In FR Doc. No. 2023-22482, appearing on pages 70652-70654 of the Federal Register of October 12, 2023, we make the following correction:

On page 70652, in the heading, remove “[Docket ID ED-2023-IES-0011]” and add, in its place, “[Docket ID ED-2023-IES-0182]”.

Mark Schneider,
Director, Institute of Education Sciences.

[FR Doc. 2023-22898 Filed 10-16-23; 8:45 am]

BILLING CODE 4000-01-P